DEPARTMENT OF THE INTERIOR

National Park Service

Notice of Inventory Completion for Native American Human Remains and Associated Funerary Objects in the Possession of the New York State Museum, Albany, NY

AGENCY: National Park Service, Interior.

ACTION: Notice.

Notice is hereby given in accordance with provisions of the Native American Graves Protection and Repatriation Act (NAGPRA), 43 CFR 10.9, of the completion of an inventory of human remains and associated funerary objects in the possession of the New York State Museum, Albany, NY.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains was made by New York State Museum professional staff in consultation with representatives of the Stockbridge Munsee Band of Mohican Indians.

In 1969, human remains representing a minimum of one individual were removed from the Coffin site (NYSM Site Number 1304), Easton Township, Washington County, NY, located on the eastern floodplain of the Hudson River. Excavations were conducted by New York State Museum staff. Although the site was a habitation site, a single burial was encountered in a storage pit. No known individual was identified. No associated funerary objects are present.

Field records and descriptions of the site indicate that all excavated features originated in the Oak Hill Phase Late Woodland occupation of the site, dated to circa A.D. 1300-1400. The Oak Hill phase is part of a developmental continuum attributed to Algonkian speakers. The site is within the historically-known aboriginal homeland of the Mohicans.

Between 1954 and 1974, human remains representing a minimum of 39 individuals were recovered from the Menands Bridge site (NYSM Site Number 1361), located on the alluvial flats west of the Hudson River, Menands, Colonie Township, Albany County, NY. Salvage excavations were conducted by New York State Museum staff and local avocational archaeologists R. Arthur Johnson and C. S. Sundler. No known individuals were identified. The three associated funerary objects are two rounded pebbles and a soil sample from one burial.

Field records, diagnostic artifacts, a radiocarbon date, and descriptions of the site indicate that most of the burials were interred during the Late Woodland period, circa A.D. 1275-1400. Based on the archaeological evidence and the geographic location of the Menands Bridge site within the historically known aboriginal homeland of the Mohican, human remains and associated funerary objects from the Menands Bridge site are most likely to be culturally affiliated with the Stockbridge Munsee Band of Mohican Indians.

Based on the above-mentioned information, officials of the New York State Museum have determined that, pursuant to 43 CFR 10.2(d)(1), the human remains listed above represent the physical remains of 40 individuals of Native American ancestry. Officials of the New York State Museum have also determined that, pursuant to 43 CFR 10.2(d)(2), the three objects listed above are reasonably believed to have been placed with or near individual human remains at the time of death or later as part of the death rite or ceremony. Lastly, officials of the New York State Museum have determined that, pursuant to 43 CFR 10.2(e), there is a relationship of shared group identity that can be reasonably traced between these Native American human remains and associated funerary objects and the Stockbridge Munsee Band of Mohican Indians.

This notice has been sent to officials of the Stockbridge Munsee Band of Mohican Indians. Representatives of any other Indian tribe that believes itself to be culturally affiliated with these human remains and associated funerary objects should contact Lisa M. Anderson, NAGPRA Coordinator, New York State Museum, 3122 CEC, Albany, NY 12230, telephone (518) 474-5813, before November 5, 2001. Repatriation of the human remains and associated funerary objects to the Stockbridge Munsee Band of Mohican Indians may begin after that date if no additional claimants come forward.

Dated: June 14, 2001.
John Robbins,
Assistant Director, Cultural Resources Stewardship and Partnerships.

[FR Doc. 01-24932 Filed 10-3-01; 8:45 am]

BILLING CODE 4310-70-F